DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patents listed below may be obtained by contacting Susan S. Rucker, J.D., at the Office of Technology Transfer, National Institutes of Health, 6011 Executive Boulevard, Suite 325, Rockville, Maryland 20852-3804; telephone: 301-435-4478; fax: 301-402-0220; email: ruckersu@mail.nih.gov.

Met Proto-Oncogene and a Method for Predicting Breast Cancer Progression

Ilan Tsarfaty, James H. Resau, Iafa Keydar, Donna Faletto, George F. Vande Woude (NCI); U.S. Patent 6,673,559 issued 06 Jan 2004 (DHHS Reference No. E-046-1991/3-US-01).

The invention described and claimed in this patent is generally applicable to assessing the prognosis of cancer. In particular, the invention is useful in assessing the whether or not breast cancer is likely undergo metastasis. The met proto-oncogene is located on the long arm of chromosome 7 at 7q31. Its activity has been linked to the invasive/metastatic phenotype of several cancers in addition to breast cancer, e.g. prostate, stomach.

According to this invention the likelihood of metastasis of breast cancer is assessed by measuring the amount of (a) protein produced by the met proto-oncogene, (b) levels of the met proto-oncogene itself, or (c) levels of mRNA produced by the met proto-oncogene in breast tumor tissue and comparing it with the amount present in normal ductal tissue of the breast. The methodology of this invention may be carried out, for example, using antibody-based assays (ELISA or Western Blot), PCR, or Northern Blots.

This work has been published at Tsarfaty, et al., Science 257(5074): 1258-61 (Aug 28 1992), Tsarfaty, et al., Anal Quant Cytol Histol 21(5): 397-408 (Oct 1999) and Hay, et al., J Cell Biochem Suppl 39(): 184-93 (2002). Foreign patent protection is not available for any of these inventions.

Method of Targeting DNA

Rafael D. Camerini-Otero, Margaret McIntosh, Carol S. Camerini-Otero and Lance J. Ferrin (NIDDK); U.S. Patent 5,460,941 issued 24 Oct 1995 (DHHS Reference No. E-006-1991/1-US-02).

Cloning of the RecA Gene From Thermus Acquatics YT-1

Rafael D. Camerini-Otero and Evelina Angov (NIDDK); U.S. Patent 5,510,473 issued 23 Apr 1996 (DHHS Reference No. E-196-1993/0-US-01).

Rec-A Assisted Cloning of DNA

Lance J. Ferrin, Rafael D. Camerini-Otero (NIDDK); U.S. Patent 5,707,811 issued 13 Jan 1998 (DHHS Reference No. E-166-1995/0-US-02).

Promotion of Homologous DNA Pairing by RecA-derived Peptides

Oleg Voloshin, Lijiang Wang, Rafael D. Camerini-Otero (NIDDK); U.S. Patent 5,731,411 issued 24 Mar 1998 (DHHS Reference No. E-139-1995/0-US-01).

These inventions are available for license separately or together. Foreign patent protection is not available for any of these inventions.

The inventions described in these patents are generally applicable to the process of homologous DNA recombination. The inventions may be used in conjunction with each other, to efficiently carry out the process of homologous recombination, or they may be used separately.

The inventions may be exploited generally in processes associated with therapeutic purposes such as gene inactivation, correction of gene mutations and the control of gene expression. For example, these inventions may be used to inhibit the transcription of a DNA sequence such as that encoding an oncogene or a virus. In addition, these inventions may be exploited in research applications such as sequence-specific mapping, cloning, and manipulation of complex genomes including the generation of transgenic animals.

Specific examples of the use of these inventions include (a) protecting a DNA sequence from modification by an enzyme such as methylase or cleavage by a restriction enzyme, (b) effecting site-specific cleavage by introducing a chemical cleavage moiety to the oligonucleotide, (c) cloning a genomic DNA fragment containing a predetermined sequence, (d) identifying a genetic mutation, e.g., point mutations, insertions and deletions, and (e) increasing the stringency thereby improving the specificity of DNA-DNA, DNA-RNA or RNA-RNA interactions at high temperatures.

This work has been published at Hsieh et al., Genes & Dev. 4(11): 1951-63 (Nov 1990); Angov et al., J. Bacteriol. 176(5): 1405-12 (Mar 1994); Voloshin et al., Science 272(5263): 868-72 (May 10, 1996); and Ferrin LJ, Genet. Eng. (NY) 17: 21-30 (1995).

Dated: February 2, 2004.
Steven M. Ferguson,
Director, Division of Technology Development and Transfer, Office of Technology Transfer, National Institutes of Health.

[FR Doc. 04-2765 Filed 2-9-04; 8:45 am]

BILLING CODE 4140-01-P